DEPARTMENT OF HEALTH AND HUMAN SERVICES

Administration for Children and Families

Privacy Act of 1974; System of Records Notice

AGENCY: Department of Health and Human Services (HHS), Administration for Children and Families (ACF), Office of Refugee Resettlement (ORR).

ACTION: Notice to establish five new and delete one Privacy Act systems of records.

SUMMARY: In accordance with the requirements of the Privacy Act of 1974, as amended (5 U.S.C. 552a), the Office of Refugee Resettlement (ORR) within HHS' Administration for Children and Families (ACF) is establishing five new systems of records: 09-80-0321 ORR Division of Children's Services Records; 09-80-0325 ORR Internet Refugee Arrivals Data System (iRADS); 09-80-0327 ORR Repatriation Program Records; 09-80-0329 ORR Unaccompanied Refugee Minors Records; and 09-80-0388 ORR Refugee Suicide Database. ORR is deleting one system of records, 09-60-0217 ORR Cuban Refugee Data System, which is being replaced by the new iRADS system of records.

Four of the five new systems of records are “mixed,” in that they contain records pertaining to both U.S. persons (i.e., individuals who are citizens of the United States or aliens lawfully admitted for permanent residence in the United States) and non-U.S. persons.

The Privacy Act applies only to U.S. persons (citizens of the United States or aliens lawfully admitted for permanent residence in the United States). As a matter of discretion, ORR will treat information that it maintains in its mixed systems of records as being subject to the provisions of the Privacy Act, regardless of whether the information relates to U.S. persons covered by the Privacy Act.

This policy implements a 1975 Office of Management and Budget (OMB) recommendation to apply, as a matter of policy, the administrative provisions of the Privacy Act to records about non-U.S. persons in mixed systems of records (referred to as the non-U.S. persons policy).

DATES: This Notice will become effective 30 days after publication, unless the Office of Refugee Resettlement makes changes based on comments received. Written comments should be submitted on or before the effective date.

ADDRESSES: The public should address written comments to Gary Cochran, Senior Agency Officer for Privacy, by mail at Administration for Children and Families, Mary E. Switzer Building, 330 C Street SW., Washington, DC 20201, or by email at gary.cochran@acf.hhs.gov.

FOR FURTHER INFORMATION CONTACT: Questions should be directed to the contact person for the system in question:

1. 09-80-0321 ORR Division of Children's Services Records

Jallyn Sualog, Administration for Children and Families, ORR, Mary E. Switzer Building, 330 C Street SW., Washington, DC 20201; Email: Jallyn.Sualog@acf.hhs.gov.

2. 09-80-0325 ORR Internet Refugee Arrivals Data System (iRADS)

Joann Simmons, Administration for Children and Families, ORR, Mary E. Switzer Building, 330 C Street SW., Washington, DC 20201; Email: joann.simmons@acf.hhs.gov.

3. 09-80-0327 ORR Repatriation Program Records

Elizabeth Russell, Administration for Children and Families, ORR, Mary E. Switzer Building, 330 C Street SW., Washington, DC 20201; Email: Elizabeth.russell@acf.hhs.gov.

4. 09-80-0329 ORR Unaccompanied Refugee Minors Records

Jallyn Sualog, Administration for Children and Families, ORR, Mary E. Switzer Building, 330 C Street SW., Washington, DC 20201; Email: Jallyn.Sualog@acf.hhs.gov

5. 09-80-0388 ORR Refugee Suicide Database

Dr. Curi Kim, Administration for Children and Families, ORR, Mary E. Switzer Building, 330 C Street SW., Washington, DC 20201; Email: curi.kim@acf.hhs.gov.

SUPPLEMENTARY INFORMATION

I. Background on Five New Systems of Records

The five new systems of records established in this Notice are maintained by the Office of Refugee Resettlement (ORR) within HHS' Administration for Children and Families (ACF); ORR plans, develops, and directs the implementation of a domestic resettlement assistance program for refugees and other eligible populations. ORR provides resources to assist these populations with successful integration into American society. ORR's social services help refugees become self-sufficient as quickly as possible after their arrival in the United States. ORR also provides guidance, resources, and oversight for specific health challenges including medical assistance, initial health screenings, and consultations. ORR also oversees the Unaccompanied Children Program, providing care for unaccompanied children without lawful immigration status, and the U.S. Repatriation Program, providing loans to eligible repatriates referred from the U.S. Department of State.

One of the five new systems of records, 09-80-0327 ORR Repatriation Program Records, contains information about U.S. persons only (i.e., U.S. citizens and their dependents receiving temporary assistance who have been identified as having returned to the U.S. or been brought from a foreign country to the U.S. because of destitution, illness, war, threat of war, or a similar crisis). The remaining four systems of records are “mixed,” in that they contain, or could contain, records pertaining to both U.S. persons and non-U.S. persons. The System of Records Notices (SORNs) published in this Notice for the four mixed systems include a statement to this effect, in the “Categories of Individuals” section:

The Privacy Act applies only to U.S. persons (citizens of the United States or aliens lawfully admitted for permanent residence in the United States). As a matter of discretion, ORR will treat information that it maintains in its mixed systems of records as being subject to the provisions of the Privacy Act, regardless of whether or not the information relates to U.S. persons covered by the Privacy Act.

This statement implements a 1975 Office of Management and Budget (OMB) recommendation to apply, as a matter of discretion, the administrative provisions of the Privacy Act to records about non-U.S. persons in mixed systems of records (referred to as the non-U.S. persons policy).

II. Deletion of One Existing System of Records

The existing system of records that is being deleted, 09-60-0217 ORR Cuban Refugee Data System, covered only records pertaining to Cuban refugees. That system has been subsumed into a broader system of records, 09-80-0325 ORR Internet Refugee Arrivals Data System (iRADS), covering refugees from all countries and other individuals eligible for ORR-funded benefits and services.

III. The Privacy Act

The Privacy Act (5 U.S.C. 552a) governs the means by which the U.S. Government collects, maintains, and uses information about individuals in a system of records. A “system of records” is a group of any records under the control of a federal agency from which information about an individual is retrieved by the individual's name or other personal identifier. The Privacy Act requires each agency to publish in the Federal Register a system of records notice (SORN) identifying and describing each system of records the agency maintains, including the purposes for which the agency uses information about individuals in the system, the routine uses for which the agency discloses such information outside the agency, and how individual record subjects can exercise their rights under the Privacy Act (e.g., to determine if the system contains information about them).

As required by the Privacy Act (5 U.S.C. 552a(r)), HHS has sent a report of this new system of records to the Committee on Homeland Security and Governmental Affairs of the Senate, the Committee on Oversight and Government Reform of the House of Representatives, and the Office of Information and Regulatory Affairs of the Office of Management and Budget (OMB).

Dated: July 11, 2016.
Robert Carey,
Director, Office of Refugee Resettlement.

The following system of records is hereby deleted:

• 09-60-0217 Cuban Refugee Data System.

System of Records Notices (SORNs) are published below for five new systems of records:

System Number:

09-80-0321.

System Name:

ORR Division of Children's Services Records.

Security Classification:

Unclassified.

System Location:

Division of Children's Services (DCS), Office of Refugee Resettlement (ORR), Administration for Children and Families (ACF), Department of Health and Human Services (HHS), Mary E. Switzer Building, 330 C Street Washington, DC.

Categories of Individuals Covered by the System:

Unaccompanied children under ORR's care, unaccompanied children who receive an adjustment of status or become U.S. citizens, children of unaccompanied children, potential sponsors of the unaccompanied children, and members of potential sponsor's household, including both U.S. and non-U.S. citizens.

Unaccompanied children (UC) are children who have no lawful immigration status in the United States; have not attained 18 years of age; and with respect to whom (i) there is no parent or legal guardian in the United States; or (ii) no parent or legal guardian in the United States is available to provide care and physical custody.

The Privacy Act applies only to U.S. persons (citizens of the United States or aliens lawfully admitted for permanent residence in the United States). As a matter of discretion, ORR will treat information that it maintains in its mixed systems of records as being subject to the provisions of the Privacy Act, regardless of whether or not the information relates to U.S. persons covered by the Privacy Act. This implements a 1975 Office of Management and Budget (OMB) recommendation to apply, as a matter of policy, the administrative provisions of the Privacy Act to records about non-U.S. persons in mixed systems of records (referred to as the non-U.S. persons policy).

Categories of Records in the System:

Records consist of computerized indexing system data and case files:

• The computerized indexing system contains personal identification data, such as Alien Registration Number, Fingerprint Identification Number (“FINS” number), and Social Security Number (SSN); date and place of birth; date and port of entry; apprehension date and location; manner of entry; apprehension field office; individual(s) apprehended with the unaccompanied child; attorney of record; juvenile/criminal history records; case disposition; significant incident reports; sponsor's biographical, financial and immigration status information; sponsor's household members' biographical information; and personal identification data of an unaccompanied child's potential sponsor, including the sponsor's biographical information (e.g., name, date of birth, place of birth), financial information, immigration status information, household members' biographical information, SSN, phone number, address, criminal background and case disposition, and results of child abuse and neglect checks.

• The case file contains information that is pertinent to the care and placement of unaccompanied children, including biographical information on each unaccompanied child, such as birth and marriage certificates; various ORR forms and supporting documents (and attachments, e.g. photographs); incident reports; medical and dental records; mental health evaluations; case notes and records; clinical notes and records; immigration forms and notifications; attorney of record and legal papers; home studies and/or post-release service records on a sponsor of an unaccompanied child; family reunification information including the sponsors' individual and financial data; case disposition; correspondence; and SSN; and juvenile/criminal history records.

Authority for Maintenance of the System:

6 U.S.C. 279; 8 U.S.C. 1232.

Purpose(s):

Records are used within HHS/ACF/ORR by DCS to provide a safe and appropriate environment for each unaccompanied child placed into ORR custody through his/her release to a family member or sponsor in the U.S., until he/she is removed to his/her home country by DHS immigration officials, until the child turns 18 years of age, or until the minor receives lawful immigration status.

Routine Uses of Records Maintained in the System, Including Categories of Users and the Purposes of Such Uses:

These routine uses specify circumstances, in addition to those provided by statute in the Privacy Act of 1974, 5 U.S.C. 552a(b), under which ACF may release information from this system of records without the consent of the data subject. Each proposed disclosure of information under these routine uses will be evaluated to ensure that the disclosure is legally permissible, including but not limited to ensuring that the purpose of the disclosure is compatible with the purpose for which the information was collected.

1. Disclosure to an Attorney or Representative. Information may be disclosed to an attorney or representative (as defined in 8 CFR 1.2) who is acting on behalf of an individual covered by this system of records in connection with any proceeding before the Department of Homeland Security or the Executive Office for Immigration Review; an attorney representing an unaccompanied child in a state court in a dependency hearing that may determine or alter the unaccompanied child's custody status or placement; or an attorney representing an unaccompanied child in a juvenile or criminal court in relation to criminal charges.

2. Disclosure for Health and Safety. Information such as health records related to communicable diseases or other illnesses that have the potential to affect public health and safety may be disclosed to any state or local health authorities, to ensure that all health issues potentially affecting public health and safety in the United States are being or have been, adequately addressed. Private health information not related to illnesses that affect public health and safety will remain confidential. This information may be disclosed for the purposes of coordinating medical and mental health evaluations, services, and care for unaccompanied alien children while in ORR care and custody. Information may be shared with a health provider to make age determinations for unaccompanied children.

3. Disclosure to Protection and Advocacy Organization. Information may be disclosed to a Protection or Advocacy organization when access is authorized and the request is appropriately made under the Protection and Advocacy for Individuals with Mental Illness Act, 42 U.S.C. 10801 et seq. Information may be disclosed to an HHS-appointed child advocate for the purpose of effectively advocating for the best interest of the child. Child advocates are granted access to this information under the William Wilberforce Trafficking Victims Protection Reauthorization Act of 2008 section 235(c)(6), 8 U.S.C. 1232(c)(6).

4. Disclosure to Plaintiffs' Counsel. Information may be disclosed to plaintiffs' counsel as required under the settlement agreement in Flores v. Reno, Case No. CV85-4544-RJK (C.D. Cal. 1996); and Perez-Olano v. Holder, Case No. CV 5-3604 (C.D. Cal. 2010).

5. Disclosure to Department of Homeland Security. Information may be disclosed to the Department of Homeland Security for the purpose of adjudicating or deciding immigration relief, notification of admission/discharge information and forms, and reported escapes of an unaccompanied child from ORR custody; and for background check purposes to ensure safe releases.

6. Disclosure for Law Enforcement or Child Welfare Purpose. Information may be disclosed to the appropriate federal, state, local, tribal, or foreign agency responsible for investigating, prosecuting, enforcing, or implementing a statute, rule, regulation, or order, if the information is relevant to a violation or potential violation of civil or criminal law or regulation within the jurisdiction of the receiving entity; and for background check purposes to ensure safe releases. Information may be shared with certain state and local agencies that provide child welfare services such as state licensing agencies, Child Protective Services, and education agencies such as state, county, or municipal schools for the purpose of protecting an unaccompanied child's health and welfare and background check purposes to ensure safe releases, as well as enrollment of an unaccompanied child in a school or educational program.

7. Disclosure for Private Relief Legislation. Information may be disclosed to the Office of Management and Budget at any stage in the legislative coordination and clearance process in connection with private relief legislation as set forth in OMB Circular No. A 19.

8. Disclosure to Congressional Office. Information may be disclosed to a congressional office from the record of an individual in response to a written inquiry from the congressional office made at the written request of the individual.

9. Disclosure to Department of Justice or in Proceedings. Information may be disclosed to the Department of Justice, or in a proceeding before a court, adjudicative body, or other administrative body before which HHS is authorized to appear, when:

• HHS, or any component thereof; or

• any employee of HHS in his or her official capacity; or

• any employee of HHS in his or her individual capacity where the Department of Justice or HHS has agreed to represent the employee; or

• the United States, if HHS determines that litigation is likely to affect HHS or any of its components,

is a party to litigation or has an interest in such litigation, and the use of such records by the Department of Justice or HHS is deemed by HHS to be relevant and necessary to the litigation provided, however, that in each case it has been determined that the disclosure is compatible with the purpose for which the records were collected.

10. Disclosure to Department of Justice for LOPC Facilitation. Information may be disclosed to the Department of Justice, Executive Office for Immigration Review for purposes of collaboration in facilitating sponsors' participation in Legal Orientation Programs for Custodians (LOPCs) under the William Wilberforce Trafficking Victims Protection Reauthorization Act of 2008 section 235(c)(4), 8 U.S.C. 1232(c)(4).

11. Disclosure to the National Archives. Information may be disclosed to the National Archives and Records Administration in records management inspections.

12. Disclosure to Contractors, Grantees, and Others. Information may be disclosed to contractors, grantees, consultants, or volunteers performing or working on a contract, service, grant, cooperative agreement, job, or memorandum of understanding, or other activity for HHS and who have a need to have access to the information in the performance of their duties or activities for HHS.

13. Disclosure to Office of Personnel Management. Information may be disclosed to the Office of Personnel Management pursuant to that agency's responsibility for evaluation and oversight of federal personnel management.

14. Disclosure in Connection with Litigation. Information may be disclosed in connection with litigation or settlement discussions regarding claims by or against HHS, including public filing with a court, to the extent that disclosure of the information is relevant and necessary to the litigation or discussions.

15. Disclosure Incident to Requesting Information. Information may be disclosed (to the extent necessary to identify the individual, inform the source of the purpose of the request, and to identify the type of information requested), to any source from which additional information is requested when necessary to obtain information relevant to an agency decision concerning benefits.

16. Disclosure for Administrative Claims, Complaints, and Appeals. Information may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

17. Disclosure to State Refugee Coordinators. Information may be shared with State Refugee Coordinators for children in ORR care who are being transferred into the ORR's Unaccompanied Refugee Minors program for purposes of coordinating appropriate placement and services for the child. The State Refugee Coordinator refers to the individuals designated by a Governor or a State to be responsible for, and who is authorized to, ensure coordination of public and private resources in refugee resettlement.

18. Disclosure to other Federal Departments and Nongovernmental Organizations and Foreign Governments for Safe Repatriation of UC. Information may be disclosed to other federal agencies (such as the Department of State, Department of Justice, Department of Homeland Security), nongovernmental organizations and foreign governments as it relates to the safe repatriation of UC to their country of origin as directed under the William Wilberforce Trafficking Victims Protection Reauthorization Act of 2008 section 235(a)(5), 8 U.S.C. 1232(a)(5).

19. Disclosure in the Event of a Security Breach. Information may be disclosed to appropriate federal agencies and Department contractors that have a need to know the information for the purpose of assisting the Department's efforts to respond to a suspected or confirmed breach of the security or confidentiality of information maintained in this system of records, provided the information disclosed is relevant and necessary for that assistance.

20. Disclosure for Cybersecurity Monitoring Purposes. Records may be disclosed to the U.S. Department of Homeland Security (DHS) if captured in an intrusion detection system used by HHS and DHS pursuant to a DHS cybersecurity program that monitors Internet traffic to and from federal government computer networks to prevent a variety of types of cybersecurity incidents.

Disclosure to Consumer Reporting Agencies:

None.

Policies and Practices for Storing, Retrieving, Accessing, Retaining, and Disposing of Records in the System—

Storage: Computer records are stored on a computer network. Paper records are stored in file folders.

Retrievability: Records are retrieved by name or Alien Registration Number of the unaccompanied child; records are electronically retrieved from the web-based data management system using name, Alien Registration Number, or SSN of the party involved.

Safeguards:

Safeguards conform to the HHS Information Security Program, http://www.hhs.gov/ocio/securityprivacy/index.html.

Retention and Disposal:

Computerized indexing system records are retained permanently; they are offered to the National Archives every five years (see N1-292-90-04, item 15). Case files are retained for five years following receipt of the final progress report (see N1-292-90-4, item 34).

System Manager and Address:

Director, Division of Children Services, Office of Refugee Resettlement, Administration for Children and Families, Mary E. Switzer Building, 330 C Street SW., Washington, DC 20201.

Notification Procedures:

Individuals seeking to determine whether this system of records contains information about themselves should address written inquiries to the System Manager. The request should include the name, telephone number and/or email address, SSN or Alien Registration Number, and address of the individual, and the request must be signed. The requester's letter must provide sufficient particulars to enable the System Manager to distinguish between records on subject individuals with the same name. Verification of identity as described in HHS's Privacy Act regulations may be required. 45 CFR 5b.5

Record Access Procedures:

Individuals seeking access to a record about themselves in this system of records should address written inquiries to the System Manager. The request should include the name, telephone number and/or email address, SSN or Alien Registration Number, and address of the individual, and should be signed. The requester's letter must provide sufficient particulars to enable the System Manager to distinguish between records on subject individuals with the same name. Verification of identity as described in HHS's Privacy Act regulations may be required. 45 CFR 5b.5

Contesting Record Procedures:

Individuals seeking to amend a record about themselves in this system of records should address the request for amendment to the System Manager. The request should (1) include the name, telephone number and/or email address, SSN or Alien Registration Number, and address of the individual, and should be signed; (2) identify the system of records that the individual believes includes his or her records or otherwise provide enough information to enable the identification of the individual's record; (3) identify the information that the individual believes in not accurate, relevant, timely, or complete; (4) indicate what corrective action is sought; and (5) include supporting justification or documentation for the requested amendment. Verification of identity as described in HHS's Privacy Act regulations may be required. 45 CFR 5b.5

Record Source Categories:

Record subjects, family members, private individuals, private and public hospitals, doctors, law enforcement agencies and officials, private attorneys, facilities reports, third parties, foreign governments, other federal agencies, state and local governments, agencies and instrumentalities.

Exemptions Claimed for the System:

None.

System Number:

09-80-0325.

System Name:

ORR Internet Refugee Arrivals Data System (iRADS).

Security Classification:

Unclassified.

System Location:

Office of Refugee Resettlement (ORR), Administration for Children and Families (ACF), Department of Health and Human Services (HHS), Mary E. Switzer Building, 330 C Street SW., Washington, DC. A list of contractor sites where individually identifiable data are currently located is available upon request to the system manager.

Categories of Individuals Covered by the System:

Records pertain to the following individuals:

• Individuals who are paroled as a refugee or asylee under 8 U.S.C. 1182(d)(5) [section 212(d)(5) of the Immigration and Nationality Act (INA)].

• Individuals admitted as a refugee under 8 U.S.C. 1157 (section 207 of INA).

• Individuals granted asylum under 8 U.S.C. 1158 (section 208 of INA).

• Cuban and Haitian entrants, in accordance with requirements in Public Law 97-35, title V, §§ 543(a)(2), 547 [8 U.S.C. 1522 (note)] and 45 CFR part 401.

• Certain Amerasians from Vietnam who are admitted to the U.S. as immigrants pursuant to 8 U.S.C. 1101 note (Amerasian Immigration).

• Iraqi or Afghan Special Immigrant Visa-holders admitted under the Consolidated Appropriations Act of 2008 (Pub. L. 110-161, Division G, Title V, Section 525) or the National Defense Authorization Act for FY 2008 (Pub. L. 110-181, Division A, Title XII, Section 1244).

• Certified victims of a severe form of human trafficking as defined under 22 U.S.C. 7105(b)(1)(c) (Trafficking Victims Protection Act of 2000).

• Individuals admitted for permanent residence, provided the individual previously held one of the statuses identified above.

The Privacy Act applies only to U.S. persons (citizens of the United States or aliens lawfully admitted for permanent residence in the United States). As a matter of discretion, ORR will treat information that it maintains in its mixed systems of records as being subject to the provisions of the Privacy Act, regardless of whether or not the information relates to U.S. persons covered by the Privacy Act. This implements a 1975 Office of Management and Budget (OMB) recommendation to apply, as a matter of policy, the administrative provisions of the Privacy Act to records about non-U.S. persons in mixed systems of records (referred to as the non-U.S. persons policy).

Categories of Records in the System:

Records consist of automated database records; data elements include but are not limited to: Alien Number, Full Name, Birth Date, Arrival Date or Date of Grant of Asylum, Immigration Status (Refugee, Asylee, etc), Marital Status, Age, Gender, Ethnicity (for populations other than Asylees), Full Address (City, State, Zip Code), County, Birth Country, Citizenship Country, Country of Origin, English Ability, Occupational Skills, Health Status, Administrative Data (e.g., voluntary resettlement agency).

Authority for Maintenance of the System:

8 U.S.C. 1521 et seq.

Purpose(s):

Records are used by HHS/ACF/ORR to generate data needed to allocate funds for Formula Social Services and Targeted Assistance grants according to statutory formulas established under 8 U.S.C. 1522(c)(1)(B) & (c)(2)(B); extract samples for the Annual Survey of Refugees, which collects information on the economic adjustment of refugees; and support other budget and grant requirements and data requests from within and outside ORR. This system of records does not collect new information but consolidates information on eligible populations obtained from other agencies.

Routine uses of records maintained in the system, including categories of users and the purposes of such uses:

These routine uses specify circumstances, in addition to those provided by statute in the Privacy Act of 1974, 5 U.S.C. 552a(b), under which ACF may release information from this system of records without the consent of the data subject. Each proposed disclosure of information under these routine uses will be evaluated to ensure that the disclosure is legally permissible, including but not limited to ensuring that the purpose of the disclosure is compatible with the purpose for which the information was collected.

1. Disclosure for Law Enforcement Purpose. Information may be disclosed to the appropriate federal, state, local, tribal, or foreign agency responsible for investigating, prosecuting, enforcing, or implementing a statute, rule, regulation, or order, if the information is relevant to a violation or potential violation of civil or criminal law or regulation within the jurisdiction of the receiving entity.

2. Disclosure for Private Relief Legislation. Information may be disclosed to the Office of Management and Budget at any stage in the legislative coordination and clearance process in connection with private relief legislation as set forth in OMB Circular No. A 19.

3. Disclosure to Congressional Office. Information may be disclosed to a congressional office from the record of an individual in response to a written inquiry from the congressional office made at the written request of the individual.

4. Disclosure to Department of Justice or in Proceedings. Information may be disclosed to the Department of Justice, or in a proceeding before a court, adjudicative body, or other administrative body before which HHS is authorized to appear, when:

• HHS, or any component thereof; or

• any employee of HHS in his or her official capacity; or

• any employee of HHS in his or her individual capacity where the Department of Justice or HHS has agreed to represent the employee; or

• the United States, if HHS determines that litigation is likely to affect HHS or any of its components,

is a party to litigation or has an interest in such litigation, and the use of such records by the Department of Justice or HHS is deemed by HHS to be relevant and necessary to the litigation provided, however, that in each case it has been determined that the disclosure is compatible with the purpose for which the records were collected.

5. Disclosure to the National Archives. Information may be disclosed to the National Archives and Records Administration in records management inspections.

6. Disclosure to Contractor. Information may be disclosed to a contractor performing or working on a contract for HHS and who has a need to have access to the information in the performance of its duties or activities for HHS.

7. Disclosure for Administrative Claim, Complaint, and Appeal. Information may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

8. Disclosure in Connection with Litigation. Information may be disclosed in connection with litigation or settlement discussions regarding claims by or against HHS, including public filing with a court, to the extent that disclosure of the information is relevant and necessary to the litigation or discussions.

9. Disclosure Incident to Requesting Information. Information may be disclosed (to the extent necessary to identify the individual, inform the source of the purpose of the request, and to identify the type of information requested), to any source from which additional information is requested when necessary to obtain information relevant to an agency decision concerning benefits.

10. Disclosure in the Event of a Security Breach. Information may be disclosed to appropriate federal agencies and Department contractors that have a need to know the information for the purpose of assisting the Department's efforts to respond to a suspected or confirmed breach of the security or confidentiality of information maintained in this system of records, provided the information disclosed is relevant and necessary for that assistance.

11. Disclosure for Cybersecurity Monitoring Purposes. Records may be disclosed to the U.S. Department of Homeland Security (DHS) if captured in an intrusion detection system used by HHS and DHS pursuant to a DHS cybersecurity program that monitors Internet traffic to and from federal government computer networks to prevent a variety of types of cybersecurity incidents.

Information may also be disclosed from this system of records to parties outside HHS for any of the uses authorized directly in the Privacy Act at 5 U.S.C. 552a(b)(2) and (b)(4)-(11).

Disclosure to Consumer Reporting Agencies:

None.

Policies and Practices for Storing, Retrieving, Accessing, Retaining, and Disposing of Records in the System—

Storage:

Records are stored in a computer database operated by a contractor.

Retrievability:

Records are retrieved by “A” (alien) number or by name, date of birth, or date of entry.

Safeguards:

Safeguards conform to the HHS Information Security Program, http://www.hhs.gov/ocio/securityprivacy/index.html.

Retention and Disposal:

Records are retained permanently; they are offered to the National Archives every five years (see N1-292-90-04, item 15).

System Manager and Address:

Division Director, Division of Budget Policy and Data Analysis, Office of Refugee Resettlement, Administration for Children and Families, Department of Health and Human Services, Mary E. Switzer Building, 330 C Street SW., Washington, DC 20201.

Notification Procedures:

Individuals seeking to determine whether this system of records contains information about themselves should address written inquiries to the System Manager. The request should include the name, telephone number and/or email address, Alien Number, and address of the individual, and the request must be signed. Verification of identity as described in HHS's Privacy Act regulations may be required. 45 CFR 5b.5

The requestor's letter must also provide sufficient particulars to enable ACF to distinguish between records on subject individuals with the same name.

Record Access Procedures:

Individuals seeking access to a record about themselves in this system of records should address written inquiries to the System Manager. The request should include the name, telephone number and/or email address, Alien Number, and address of the individual, and should be signed. Verification of identity as described in HHS's Privacy Act regulations may be required. 45 CFR 5b.5

The requestor's letter must also provide sufficient particulars to enable ACF to distinguish between records on subject individuals with the same name.

Contesting Record Procedures:

Individuals seeking to amend a record about themselves in this system of records should address the request for amendment to the System Manager. The request should (1) include the name, telephone number and/or email address, Alien Number, and address of the individual, and should be signed; (2) provide the name or other information about the project that the individual believes contains his or her records; (3) identify the information that the individual believes is not accurate, relevant, timely, or complete; (4) indicate what corrective action is sought; and (5) include supporting justification or documentation for the requested amendment. Verification of identity as described in HHS's Privacy Act regulations may be required. 45 CFR 5b.5

Record Source Categories:

Record subjects, Department grantees, and social service agencies. Refugee arrival data from the Department of State's Worldwide Refugee Arrivals Processing System (WRAPS); legacy refugee arrival data from the Department of State's Refugee Data Center; Department of Homeland Security (DHS) U.S. Citizenship and Immigration Services (USCIS) asylum corps grant data and I-730 asylee derivative data with some data elements provided by Customs and Border Protection; DHS/Customs and Border Protection (CBP) data regarding Cubans and Haitians entering the U.S. at land borders or Ports of Entry other than Miami, FL, as well as Iraqi and Afghan Special Immigrants (starting in FY 2008); the Department of Justice (DOJ) Executive Office of Immigration Review (EOIR) asylum grant data; the United States Conference of Catholic Bishops (USCCB) and Church World Services in Miami, FL data for Cuban and Haitian entrants and Havana parolees (including data on Cuban Medical Parolees) entering the U.S. through the Port of Miami; the I-643 form (OMB No. 1615-0070), completed by refugees and asylees, Cuban and Haitian entrants, and Amerasians and submitted to USCIS or ORR when filing an application for adjustment of status.

Exemptions Claimed for the System:

None.

System Number:

09-80-0327.

System Name:

ORR Repatriation Program Records.

Security Classification:

Unclassified.

System Location:

Office of Refugee Resettlement (ORR), Administration for Children and Families (ACF), Department of Health and Human Services (HHS), Mary E. Switzer Building, 330 C Street SW., Washington, DC.

Categories of Individuals Covered by the System:

U.S. citizens and their dependents receiving temporary assistance who have been identified by the Department of State as having returned, or been brought from a foreign country to the U.S. because of destitution, illness, war, threat of war, or a similar crisis.

Categories of Records in the System:

Records consist of case files, containing:

• Identifying information including but not limited to name, date of birth, place of birth, gender, Social Security Number (SSN), passport number, case number, citizenship, address;

• service information, including but not limited to type of case (settlement or exception), resettlement state, case activity (dates and notes);

• types of assistance requested, including but not limited to financial, food, travel, clothing, medical, other;

• types of assistance provided, including but not limited to identification numbers, service providers, cost information;

• medical information, including but not limited to diagnosis, prognosis, mental health status, hospitalization;

• next-of-kin information, including next of kin name, identification number, address, relationship, telephone numbers;

• repayment information, including but not limited to deferrals, extensions, referrals to collection agencies and Internal Revenue Service, payments; and

• travel plans, including but not limited to name of escort, destinations, flight numbers, dates of travel.

Authority for Maintenance of the System:

Section 1113 of the Social Security Act, 42 U.S.C. 1313 (Assistance for U.S. Citizens Returned from Foreign Countries) and 24 U.S.C. 321-329 (Hospitalization of mentally ill nationals returned from foreign countries).

Purpose(s):

Records are used by HHS/ACF/ORR to administer the United States Repatriation Program, which provides temporary assistance to U.S. citizens and their dependents who have been identified by the Department of State as having returned, or been brought from a foreign country to the U.S. because of destitution, illness, war, threat of war, or a similar crisis. Temporary assistance may include money payments, medical care, temporary billeting, transportation, and other goods and services necessary for the health or welfare of individuals (including guidance, counseling, and other welfare services), furnished to United States citizens and their dependents who are without available resources in the U.S. upon their arrival from abroad and for up to 90 days after their arrival, not exceeding 90 days as may be provided in regulations of the Secretary of HHS. All temporary assistance provided under the Program and allocable to individual recipients is repayable to the federal government. HHS' Program Support Center administers debt collection for these repayments.

Routine Uses of Records Maintained in the System, Including Categories of Users and the Purposes of Such Uses:

These routine uses specify circumstances, in addition to those provided by statute in the Privacy Act of 1974, 5 U.S.C. 552a(b), under which ACF may release information from this system of records without the consent of the data subject. Each proposed disclosure of information under these routine uses will be evaluated to ensure that the disclosure is legally permissible, including but not limited to ensuring that the purpose of the disclosure is compatible with the purpose for which the information was collected.

1. Disclosure to Department of State. Information may be disclosed to the Department of State in connection with determinations of eligibility, referral, planning, and provision of temporary assistance of or in cases referred to HHS.

2. Disclosure to States. Information may be disclosed to the states in connection with coordination and/or provision of temporary services for eligible repatriates.

3. Disclosure to Service Provider. Information may be disclosed to providers of services (e.g. community-based organizations, hospitals) and to local state institutions (e.g., courts and social service agencies) that assist in coordination and/or the provision of temporary services.

4. Disclosure to Agency for Temporary Services. Information may be disclosed to other federal agencies and non-governmental agencies for planning or provision of temporary services to eligible repatriates.

Federal agencies include but are not limited to Department of State, Department of Defense, Department of Justice, Department of Homeland Security, Department of Housing and Urban Development, Federal Emergency Management Agency, Department of Agriculture, and United States Department of Transportation. Non-governmental agencies include but are not limited to American Red Cross and Salvation Army.

5. Disclosure for Law Enforcement Purpose. Information may be disclosed to the appropriate federal, state, local, tribal, or foreign agency responsible for investigating, prosecuting, enforcing, or implementing a statute, rule, regulation, or order, if the information is relevant to a violation or potential violation of civil or criminal law or regulation within the jurisdiction of the receiving entity.

6. Disclosure Incident to Requesting Information. Information may be disclosed (to the extent necessary to identify the individual, inform the source of the purpose of the request, and to identify the type of information requested), to any source from which additional information is requested when necessary to obtain information relevant to an agency decision concerning retention of an employee or other personnel action (other than hiring), retention of a security clearance, the letting of a contract, or the issuance or retention of a grant, or other benefit.

7. Disclosure for Employee Retention, Security Clearance, Contract, or Other Benefit. Disclosure may be made to a federal, state, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within HHS or to another federal agency for criminal, civil, administrative, personnel, or regulatory action.

8. Disclosure for Private Relief Legislation. Information may be disclosed to the Office of Management and Budget at any stage in the legislative coordination and clearance process in connection with private relief legislation as set forth in OMB Circular No. A 19.

9. Disclosure to Congressional Office. Information may be disclosed to a congressional office from the record of an individual in response to a written inquiry from the congressional office made at the written request of the individual.

10. Disclosure to Department of Justice or in Proceedings. Information may be disclosed to the Department of Justice, or in a proceeding before a court, adjudicative body, or other administrative body before which HHS is authorized to appear, when:

• HHS, or any component thereof; or

• any employee of HHS in his or her official capacity; or

• any employee of HHS in his or her individual capacity where the Department of Justice or HHS has agreed to represent the employee; or

• the United States, if HHS determines that litigation is likely to affect HHS or any of its components,

is a party to litigation or has an interest in such litigation, and the use of such records by the Department of Justice or HHS is deemed by HHS to be relevant and necessary to the litigation provided, however, that in each case it has been determined that the disclosure is compatible with the purpose for which the records were collected.

11. Disclosure to the National Archives. Information may be disclosed to the National Archives and Records Administration in records management inspections.

12. Disclosure to Contractors, Grantees, and Others. Information may be disclosed to contractors, grantees, consultants, or volunteers performing or working on a contract, service, grant, cooperative agreement, job, or other activity for HHS and who have a need to have access to the information in the performance of their duties or activities for HHS.

13. Disclosure for Administrative Claim, Complaint, and Appeal. Information may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

14. Disclosure to Office of Personnel Management. Information may be disclosed to the Office of Personnel Management pursuant to that agency's responsibility for evaluation and oversight of federal personnel management.

15. Disclosure in Connection with Litigation. Information may be disclosed in connection with litigation or settlement discussions regarding claims by or against HHS, including public filing with a court, to the extent that disclosure of the information is relevant and necessary to the litigation or discussions.

16. Disclosure in the Event of a Security Breach. Information may be disclosed to appropriate federal agencies and Department contractors that have a need to know the information for the purpose of assisting the Department's efforts to respond to a suspected or confirmed breach of the security or confidentiality of information maintained in this system of records, provided the information disclosed is relevant and necessary for that assistance.

17. Disclosure for Cybersecurity Monitoring Purposes. Records may be disclosed to the U.S. Department of Homeland Security (DHS) if captured in an intrusion detection system used by HHS and DHS pursuant to a DHS cybersecurity program that monitors Internet traffic to and from federal government computer networks to prevent a variety of types of cybersecurity incidents.

Information may also be disclosed from this system of records to parties outside HHS for any of the uses authorized directly in the Privacy Act at 5 U.S.C. 552a(b)(2) and (b)(4)-(12).

Disclosure to Consumer Reporting Agencies:

The HHS Program Support Center may make disclosures to consumer reporting agencies regarding debts referred from repatriation activities. See System of Records 09-40-0012 Debt Management and Collection System.

Policies and Practices for Storing, Retrieving, Accessing, Retaining, and Disposing of Records in the System—

Storage:

Records are stored on grantee's computer network and safe/file cabinet.

Retrievability:

Records are retrieved by name of recipient, case file, or SSN.

Safeguards:

Safeguards conform to the HHS Information Security Program, http://www.hhs.gov/ocio/securityprivacy/index.html.

Retention and Disposal:

Files are transferred to a Federal Records Center one year after termination of collection efforts, and are destroyed five years after termination of collection efforts (see N1-292-93-1).

System Manager and Address:

Manager, Repatriation Program, Office of Refugee Resettlement, Administration for Children and Families, Department of Health and Human Services, Mary E. Switzer Building, 330 C Street SW., Washington, DC 20201.

Notification Procedures:

Individuals seeking to determine whether this system of records contains information about themselves should address written inquiries to the System Manager. The request should include the name, telephone number and/or email address, SSN, and address of the individual, and the request must be signed. The requester's letter must provide sufficient particulars to enable the System Manager to distinguish between records on subject individuals with the same name. Verification of identity as described in HHS's Privacy Act regulations may be required. 45 CFR 5b.5

Record Access Procedures:

Individuals seeking access to a record about themselves in this system of records should address written inquiries to the System Manager. The request should include the name, telephone number and/or email address, SSN, and address of the individual, and should be signed. The requester's letter must provide sufficient particulars to enable the System Manager to distinguish between records on subject individuals with the same name. Verification of identity as described in HHS's Privacy Act regulations may be required. 45 CFR 5b.5

Contesting Record Procedures:

Individuals seeking to amend a record about themselves in this system of records should address the request for amendment to the System Manager. The request should (1) include the name, telephone number and/or email address, SSN, and address of the individual, and should be signed; (2) identify the system of records that the individual believes includes his or her records or otherwise provide enough information to enable the identification of the individual's record; (3) identify the information that the individual believes in not accurate, relevant, timely, or complete; (4) indicate what corrective action is sought; and (5) include supporting justification or documentation for the requested amendment. Verification of identity as described in HHS's Privacy Act regulations may be required. 45 CFR 5b.5.

Record Source Categories:

Information may be obtained from a wide variety of institutions and individuals involved who may be in the process or repatriation and/or deportation. Sources include the record subject; representatives and relatives of the record subject; Department of State and other federal agencies; international agencies; foreign governments; social service organizations; employers; state agencies; health care institutions; and other sources including public information.

Exemptions Claimed for the System:

None.

System Number:

09-80-0329.

System Name:

ORR Unaccompanied Refugee Minors Records.

Security Classification:

Unclassified.

System Location:

Office of Refugee Resettlement (ORR), Administration for Children and Families (ACF), Department of Health and Human Services (HHS), Mary E. Switzer Building, 330 C Street SW., Washington, DC.

Categories of Individuals Covered by the System:

Refugee unaccompanied children who are admitted from refugee camps overseas or determined eligible after arrival in the United States and do not have a parent or a relative available and committed to providing for their long term care; children eligible for benefits as victims of a severe form of trafficking; entrant children with Cuban-Haitian Entrant designation; and unaccompanied minor children granted asylum in the United States, Special Immigrant Juvenile Status, or U status.

The Privacy Act applies only to U.S. persons (citizens of the United States or aliens lawfully admitted for permanent residence in the United States). As a matter of discretion, ORR will treat information that it maintains in its mixed systems of records as being subject to the provisions of the Privacy Act, regardless of whether or not the information relates to U.S. persons covered by the Privacy Act. This implements a 1975 Office of Management and Budget (OMB) recommendation to apply, as a matter of policy, the administrative provisions of the Privacy Act to records about non-U.S. persons in mixed systems of records (referred to as the non-U.S. persons policy).

Categories of Records in the System:

Records consist of database records and hard copy case files:

• The database includes information reported on ORR Forms 3 and 4 (name, address, alien number, country of origin, immigration classification, parents' names, national and local refugee resettlement agency, child welfare agency, school progress, English language acquisition, education progress, social adjustment, health conditions, family reunion, emancipation information, etc.), eligibility determinations, identifying information, placement, and progress summaries are recorded.

• Hard copy case files include letters and forms documenting the reclassification and designation of individuals covered by the systems, tracking documents, and case notes. Electronic files include messages used for determining placements.

Authority for Maintenance of the System:

8 U.S.C. 1521, 1522; Title V of the Refugee Education Assistance Act of 1980, 8 U.S.C. 1522 note.

Purpose(s):

Records are used by HHS/ACF/ORR to establish legal responsibility, under state law, to ensure that unaccompanied minor refugees and entrants receive the full range of assistance, care, and services which are available to all foster children in the state; a legal authority is designated to act in place of the child's unavailable parent(s). Reunification of children with their parents or other appropriate adult relatives is encouraged, through family tracing and coordination with local refugee resettlement agencies. Additional services provided include: Indirect financial support for housing, food, clothing, medical care and other necessities; intensive case management by social workers; independent living skills training; educational supports; English language training; career/college counseling and training; mental health services; assistance adjusting immigration status; cultural activities; recreational opportunities; support for social integration; and cultural and religious preservation.

Routine Uses of Records Maintained in the System, Including Categories of Users and the Purposes of Such Uses:

These routine uses specify circumstances, in addition to those provided by statute in the Privacy Act of 1974, 5 U.S.C. 552a(b), under which ACF may release information from this system of records without the consent of the data subject. Each proposed disclosure of information under these routine uses will be evaluated to ensure that the disclosure is legally permissible, including but not limited to ensuring that the purpose of the disclosure is compatible with the purpose for which the information was collected.

1. Disclosure to Attorney. Information may be disclosed to an attorney or representative (as defined in 8 CFR 1.2) who is acting on behalf of an individual covered by this system of records in connection with any proceeding before the Department of Homeland Security or the Executive Office for Immigration Review.

2. Disclosure to a Protection or Advocacy Organization. Information may be disclosed to a protection or advocacy organization when access is authorized and the request is appropriately made under the Protection and Advocacy for Individuals with Mental Illness Act, 42 U.S.C. 10801 et seq.

3. Disclosure to Department of Homeland Security for Immigration Relief. Information may be disclosed to the Department of Homeland Security for the purpose of adjudicating or deciding immigration relief.

4. Disclosure to Service Provider. Information may be disclosed to a provider of services to refugee minors, foster care agency, national voluntary refugee resettlement agency, or to a local, county or State institution (e.g., State refugee coordinator, child welfare agency, court, or social service agency) involved in resettlement activities.

5. Disclosure for Law Enforcement Purpose. Information may be disclosed to the appropriate federal, state, local, tribal, or foreign agency responsible for investigating, prosecuting, enforcing, or implementing a statute, rule, regulation, or order, if the information is relevant to a violation or potential violation of civil or criminal law or regulation within the jurisdiction of the receiving entity.

6. Disclosure for Private Relief Legislation. Information may be disclosed to the Office of Management and Budget at any stage in the legislative coordination and clearance process in connection with private relief legislation as set forth in OMB Circular No. A 19.

7. Disclosure to Congressional Office. Information may be disclosed to a congressional office from the record of an individual in response to a written inquiry from the congressional office made at the written request of the individual.

8. Disclosure to Department of Justice or in Proceedings. Information may be disclosed to the Department of Justice, or in a proceeding before a court, adjudicative body, or other administrative body before which HHS is authorized to appear, when:

• HHS, or any component thereof; or

• any employee of HHS in his or her official capacity; or

• any employee of HHS in his or her individual capacity where the Department of Justice or HHS has agreed to represent the employee; or

• the United States, if HHS determines that litigation is likely to affect HHS or any of its components,

is a party to litigation or has an interest in such litigation, and the use of such records by the Department of Justice or HHS is deemed by HHS to be relevant and necessary to the litigation provided, however, that in each case it has been determined that the disclosure is compatible with the purpose for which the records were collected.

9. Disclosure to the National Archives. Information may be disclosed to the National Archives and Records Administration in records management inspections.

10. Disclosure to Contractors, Grantees, and Others. Information may be disclosed to contractors, grantees, consultants, or volunteers performing or working on a contract, service, grant, cooperative agreement, job, or other activity for HHS and who have a need to have access to the information in the performance of their duties or activities for HHS.

11. Disclosure for Administrative Claim, Complaint, and Appeal. Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

12. Disclosure to Office of Personnel Management. Information from this system of records may be disclosed to the Office of Personnel Management pursuant to that agency's responsibility for evaluation and oversight of federal personnel management.

13. Disclosure in Connection with Litigation. Information from this system of records may be disclosed in connection with litigation or settlement discussions regarding claims by or against HHS, including public filing with a court, to the extent that disclosure of the information is relevant and necessary to the litigation or discussions.

14. Disclosure in the Event of a Security Breach. Information may be disclosed to appropriate federal agencies and Department contractors that have a need to know the information for the purpose of assisting the Department's efforts to respond to a suspected or confirmed breach of the security or confidentiality of information maintained in this system of records, provided the information disclosed is relevant and necessary for that assistance.

15. Disclosure for Cybersecurity Monitoring Purposes. Records may be disclosed to the U.S. Department of Homeland Security (DHS) if captured in an intrusion detection system used by HHS and DHS pursuant to a DHS cybersecurity program that monitors Internet traffic to and from federal government computer networks to prevent a variety of types of cybersecurity incidents.

Information may also be disclosed from this system of records to parties outside HHS for any of the uses authorized directly in the Privacy Act at 5 U.S.C. 552a(b)(2) and (b)(4)-(11).

Disclosure to Consumer Reporting Agencies:

None.

Policies and Practices for Storing, Retrieving, Accessing, Retaining, and Disposing of Records in the System—

Storage:

Computer records are stored on a computer network. Paper records are stored in file folders.

Retrievability:

Records of refugee unaccompanied minors, reclassified refugee unaccompanied minors, children who are eligible for benefits as victims of a severe form of trafficking, entrant minor children of the Cuban-Haitian Entrant programs and minor children granted asylum, Special Immigrant Juvenile Status or U status are retrieved by name and alien numbers from the ORR database.

Safeguards:

Safeguards conform to the HHS Information Security Program, http://www.hhs.gov/ocio/securityprivacy/index.html.

Retention and Disposal:

Database records are retained permanently; they are offered to the National Archives every five years (see N1-292-90-04, item 15). Case files are retained for five years following receipt of the final progress report (see N1-292-90-4, item 34).

System Manager and Address:

Director, Division of Children's Services, Office of Refugee Resettlement, Administration for Children and Families, Department of Health and Human Services, Mary E. Switzer Building, 330 C Street SW., Washington, DC 20201.

Notification procedures:

Individuals seeking to determine whether this system of records contains information about themselves should address written inquiries to the System Manager. The request should include the name, telephone number and/or email address, Alien Number, and address of the individual, and the request must be signed. The requester's letter must provide sufficient particulars to enable the System Manager to distinguish between records on subject individuals with the same name. Verification of identity as described in HHS's Privacy Act regulations may be required. 45 CFR 5b.5

Record Access Procedures:

Individuals seeking access to a record about themselves in this system of records should address written inquiries to the System Manager. The request should include the name, telephone number and/or email address, Alien Number, and address of the individual, and should be signed. The requester's letter must provide sufficient particulars to enable the System Manager to distinguish between records on subject individuals with the same name. Verification of identity as described in HHS's Privacy Act regulations may be required. 45 CFR 5b.5

Contesting Record Procedures:

Individuals seeking to amend a record about themselves in this system of records should address the request for amendment to the System Manager. The request should (1) include the name, telephone number and/or email address, Alien Number, and address of the individual, and should be signed; (2) identify the system of records that the individual believes includes his or her records or otherwise provide enough information to enable the identification of the individual's record; (3) identify the information that the individual believes in not accurate, relevant, timely, or complete; (4) indicate what corrective action is sought; and (5) include supporting justification or documentation for the requested amendment. Verification of identity as described in HHS's Privacy Act regulations may be required. 45 CFR 5b.5

Record Source Categories:

Record subject, national and local voluntary refugee resettlement agencies, child welfare agencies, family members, private individuals, private and public hospitals, doctors, law enforcement agencies and officials, private attorneys, facilities reports, third parties, other Federal agencies, State and local governments, agencies and instrumentalities.

Exemptions Claimed for the System:

None.

System Number:

09-80-0388.

System Name:

ORR Refugee Suicide Database.

Security Classification:

Unclassified.

System Location:

Datacenter for Administration for Children and Families (ACF), Department of Health and Human Services (HHS), Mary E. Switzer Building, 330 C Street SW., Washington, DC

Categories of Individuals Covered by the System:

Records pertain to individuals in ORR populations reported as unsuccessfully attempting a suicide in the United States. ORR populations include refugees, asylees, Cuban/Haitian entrants, Afghan and Iraqi Special Immigrants, certain Amerasians, and victims of human trafficking.

The Privacy Act applies only to U.S. persons (citizens of the United States or aliens lawfully admitted for permanent residence in the United States). As a matter of discretion, ORR will treat information that it maintains in its mixed systems of records as being subject to the provisions of the Privacy Act, regardless of whether or not the information relates to U.S. persons covered by the Privacy Act. This implements a 1975 Office of Management and Budget (OMB) recommendation to apply, as a matter of policy, the administrative provisions of the Privacy Act to records about non-U.S. persons in mixed systems of records (referred to as the non-U.S. persons policy).

Categories of Records in the System:

Records consist of data reported by states and other resettlement organizations, using the Refugee Suicide and Self-Harm Report Form, which ORR enters into spreadsheets. The records may include the following information about the individual who attempted suicide: Alien number; country of origin; age; gender; residence (city/county, state); estimated length of time in the U.S.; date of suicide attempt; outcome of suicide attempt; household members (type of relationship); ORR population type; current immigration status; marital/relationship status; employment status at time of suicide attempt; health insurance status; English proficiency; religion; method of suicide attempted; place of occurrence; contributing factors; and mental health concerns.

Authority of Maintenance of the System:

Section 412(b)(4) of the Immigration and Nationality Act (8 U.S.C. 1522(b)(4))

Purpose(s):

ORR will use records in the Refugee Suicide Database to identify trends and factors related to suicidal behavior among ORR populations. Additionally, ORR will use the records to plan, implement, and evaluate suicide prevention and intervention activities, in collaboration with local, state, and national government agencies and organizations serving the refugee population.

Routine uses of records maintained in the system, including categories of users and the purposes of such users:

These routine uses specify circumstances under which ACF may disclose information from this system of records without the prior written consent of the data subject. Each proposed disclosure of information under these routine uses will be evaluated to ensure that the disclosure is legally permissible, including but not limited to ensuring that the purpose of the disclosure is compatible with the purpose for which the information was collected.

1. Disclosure to Government Agencies and Organizations Assisting the Refugee Population. Information will be shared with local, state, and national government agencies and organizations serving the refugee population, for the purpose of collaborating with them to plan, implement, and evaluate suicide prevention and intervention activities.

2. Disclosure to Contractors, Grantees, and Others. Information may be disclosed to contractors, grantees, consultants, or volunteers performing or working on a contract, service, grant, cooperative agreement, job, or memorandum of understanding, or other activity for HHS related to the purposes of the system, and who have a need to have access to the information in the performance of their duties or activities for HHS.

3. Disclosure in the Event of a Security Breach. Records may be disclosed to appropriate federal agencies and Department contractors that have a need to know the information for the purpose of assisting the Department's efforts to respond to a suspected or confirmed breach of the security or confidentiality of information maintained in this system of records, when the information disclosed is relevant and necessary for that assistance.

4. Disclosure for Cybersecurity Monitoring Purposes. Records may be disclosed to the U.S. Department of Homeland Security (DHS) if captured in an intrusion detection system used by HHS and DHS pursuant to a DHS cybersecurity program that monitors Internet traffic to and from federal government computer networks to prevent a variety of types of cybersecurity incidents.

Information may also be disclosed from this system of records to parties outside HHS for any of the uses authorized directly in the Privacy Act at 5 U.S.C. 552a(b)(2) and (b)(4)-(11).

Disclosures to Consumer Reporting Agencies:

None.

Policies and Practices for Storing, Retrieving, Accessing, Retaining, and Disposing of Records in the System—

Storage:

Records are stored in an electronic database on a computer network.

Retrievability:

Records are retrieved by alien number.

Safeguards:

Information in this system is safeguarded in accordance with applicable laws, rules and policies. Records are protected from unauthorized access through appropriate administrative, physical, and technical safeguards. Access to the records is restricted to authorized personnel (a limited number of employees in ORR with access to the database, and a limited number of employees in other HHS offices, e.g., CDC and SAMHSA, receiving data from ORR) who are advised of the confidentiality of the records and the civil and criminal penalties for misuse. Personnel with authorized access to the system are provided privacy and security training for electronically stored information. The records are processed and stored in a secure environment. All records are stored in an area that is physically safe from access by unauthorized persons at all times. Safeguards conform to the HHS Information Security Program, http://www.hhs.gov/ocio/securityprivacy/index.html.

Retention and Disposal:

The records will be retained indefinitely pending scheduling with the National Archives and Records Administration (NARA). Because the records will have continuing value for epidemiological purposes, the retention period proposed to NARA may be 100 years or longer.

System manager and address:

Director, Division of Refugee Health, Office of Refugee Resettlement, Administration for Children and Families, Mary E. Switzer Building, 330 C Street SW., Washington, DC 20201.

Notification procedure:

Individuals seeking to determine whether this system of records contains information about them should address written inquiries to the System Manager. The request should include the alien number, age, telephone number, and/or email address of the individual data subject. The request must be signed by the requester. Verification of identity as described in the Department's Privacy Act regulations may be required (see 45 CFR 5b.5). If the individual data subject is a minor or is legally incompetent, the individual's legal representative (parent or court-appointed guardian) may request notification on the individual's behalf. The representative must provide verification of identity and competent evidence of the parent or guardian relationship.

Record access procedures:

Individuals seeking access to a record about them in this system of records should address written inquiries to the System Manager. The request should include the alien number, age, telephone number, and/or email address of the individual. The request must be signed by the individual to whom such information pertains. Verification of identity as described in the Department's Privacy Act regulations may be required (see 45 CFR 5b.5). If the individual data subject is a minor or is legally incompetent, the individual's legal representative (parent or court-appointed guardian) may request access on the individual's behalf. The representative must provide verification of identity and competent evidence of the parent or guardian relationship.

Contesting record procedures:

Individuals seeking to amend a record about them in this system of records should address the request for amendment to the System Manager. The request should:

• Include the alien number, age, telephone number, and/or email address of the individual, and should be signed by the individual to whom such information pertains;

• identify the system of records that the individual believes includes his or her records or otherwise provide enough information to enable the identification of the individual's record;

• identify the information that the individual believes is not accurate, relevant, timely or complete;

• indicate what corrective action is sought; and

• include supporting justification or documentation for the requested amendment.

Verification of identity as described in the Department's Privacy Act regulations may be required (see 45 CFR 5b.5). If the individual data subject is a minor or is legally incompetent, the individual's legal representative (parent or court-appointed guardian) may make an amendment request on the individual's behalf. The representative must provide verification of identity and competent evidence of the parent or guardian relationship.

Record source categories:

The information maintained in the system is provided by states and other resettlement organizations when they report a suicide attempt using the Refugee Suicide and Report Form. The State Refugee Coordinator and State Refugee Health Coordinator will be primarily responsible for reporting this information. They will collect the information from various sources within the state including refugee resettlement agencies, public health departments, ethnic-based community organizations, and refugee community leaders.

Exemptions claimed for the system:

None.

[FR Doc. 2016-16812 Filed 7-15-16; 8:45 am]

BILLING CODE P